NUCLEAR REGULATORY COMMISSION

Correction to Biweekly Notice Applications and Amendments to Operating Licenses Involving No Significant Hazards Consideration

On July 5, 2005 (70 FR 38712), the Federal Register published the “Biweekly Notice of Applications and Amendments to Operating Licenses Involving No Significant Hazards Considerations.” On page 38725, for Duke Energy Corporation, et al., Catawba Nuclear Station, Units 1 and 2, “Amendment Nos. 225 and 222” should read “Amendment Nos. 225 and 220.”

Dated in Rockville, Maryland, this 29th day of July, 2005.
For the Nuclear Regulatory Commission.
Ho K. Nieh,
Acting Director, Division of Licensing Project Management, Office of Nuclear Reactor Regulation.

[FR Doc. E5-4209 Filed 8-4-05; 8:45 am]

BILLING CODE 7590-01-P